ENVIRONMENTAL PROTECTION AGENCY

[ER-FRL-9041-3]

Environmental Impact Statements; Notice of Availability

Responsible Agency: Office of Federal Activities, General Information (202) 564-5632 or https://www.epa.gov/nepa/.

Weekly receipt of Environmental Impact Statements

Filed 09/03/2018 Through 09/07/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180209, Final, GSA, MD, 2018 Master Plan for the Consolidation of the U.S. FDA HQ Final Environmental Impact Statement, Review Period Ends: 10/15/2018, Contact: Paul Gyamfi 202-440-3405

EIS No. 20180210, Final, USN, VA, Atlantic Fleet Training and Testing, Review Period Ends: 10/15/2018, Contact: Todd Kraft 757-836-2943

EIS No. 20180211, Adoption, NIGC, CA, Final Environmental Impact Statement—Wilton Rancheria, Review Period Ends: 10/15/2018, Contact: Austin Badger 202-632-7003

Dated: September 10, 2018.
Robert Tomiak,
Director, Office of Federal Activities.

[FR Doc. 2018-19923 Filed 9-13-18; 8:45 am]

BILLING CODE 6560-50-P